DEPARTMENT OF HEALTH AND HUMAN SERVICES

Centers for Disease Control and Prevention

STD Surveillance Network (SSuN)

Announcement Type: New.

Funding Opportunity Number: AA055.

Catalog of Federal Domestic Assistance Number: 93.977.

Key Dates:

Letter of Intent Deadline: July 8, 2005.

Application Deadline: July 25, 2005.

I. Funding Opportunity Description

Authority: Sections 317(k)(2) and 318 of the Public Health Service Act [42 U.S.C. Sections 247b(k)(2) and 247c], as amended.

Background: A dynamic STD surveillance network, comprised of local enhanced STD surveillance systems following common protocols, has the potential to fill several important gaps in the existing national STD surveillance system. National STD surveillance data, reported through the National Electronic Telecommunication Surveillance System (NETSS), currently involves a limited number of demographic data elements collected from all states for a limited number of sexually transmitted diseases (chancroid, chlamydia, gonorrhea, and syphilis). Weekly reporting through NETSS is insufficient for rapid identification of many trends in disease, and does not support the collection and reporting of data on many relevant STD risk behaviors. Furthermore, even if trends in disease or risk behaviors are identified, the national STD morbidity surveillance infrastructure comprised of NETSS reporting from all states has limited capacity to be easily and rapidly modified. Even though the transition to the National Electronic Disease Surveillance System (NEDSS) is intended to improve the timeliness and flexibility of national STD surveillance, the flexibility of national morbidity reporting will always be restricted by the scale of the system.

CDC has traditionally relied on supplemental activities such as prevalence monitoring projects and special studies to enhance STD surveillance at a national level. While these types of activities focus on specific at-risk sub-populations, an STD surveillance network would focus activities on the larger population with disease. The STD surveillance network would also have the ability to monitor what is happening across the range of STD entities (gonorrhea, herpes, chlamydia, syphilis, HPV, etc.). In addition, it should provide the infrastructure and potential to detect emerging issues and environmental changes (ex: increases in lymphogranuloma venereum (LGV), resistant gonorrhea, resistant syphilis, HPV, illicit drug use). An initial focus and priority would be to obtain enhanced data on gonorrhea. Additional priority areas would be determined by the STD surveillance network on an ongoing basis.

Purpose: The purposes of the program are to: develop a dynamic STD surveillance network comprised of local enhanced STD surveillance systems, following common protocols, to improve the capacity of national, state, and local STD programs to detect, monitor, and respond rapidly, flexibly, and with greater effectiveness to established and emerging trends in sexually transmitted diseases (STDs) through improved collection, reporting, analysis, visualization (i.e. mapping); and interpret STD surveillance data.

This program addresses the “Healthy People 2010” focus area(s) of: HIV Infection, Immunization and Infectious Diseases, Public Health Infrastructure, and Sexually Transmitted Diseases.

Measurable outcomes of the program will be in alignment with one or more of the following performance goals for the Coordinating Center for Infectious Diseases (CCID), National Center for HIV, STD, and TB Prevention (NCHSTP), Division of STD Prevention (DSTDP): (1) Reduce STD rates by providing chlamydia and gonorrhea screening, treatment, and partner treatment to 50 percent of women in publicly funded family planning and STD clinics nationally; (2) Reduce the incidence of primary and secondary syphilis; (3) Reduce the incidence of congenital syphilis; and (4) Strengthen the capacity nationwide to monitor the epidemic, develop and implement effective HIV prevention interventions, and evaluate prevention programs.

This announcement is only for non-research activities supported by CDC/ATSDR. If research is proposed, the application will not be reviewed. For the definition of research, please see the CDC Web site at the following Internet address: http://www.cdc.gov/od/ads/opspoll1.htm.

Activities:

Required awardee activities for this program are as follows:

• Participate in conference calls and a CDC-organized meeting in the first quarter of the year one budget period to finalize a common protocol for enhanced gonorrhea surveillance and for at least one other emerging or existing STD area of concern. Types of data to be collected under the common protocol for enhanced gonorrhea surveillance, with relevance for other STDs may include: number and gender of sex partners; presence or absence of symptoms; sites of infection; STD/HIV infection history; level of education; internet usage; history of incarceration; performance drug use; and illicit substance use.

• Provide the human and technical resources necessary for collection, analysis, interpretation, and dissemination of enhanced gonorrhea surveillance data from one or more STD clinics; it is also desirable, but not required, that awardees conduct enhanced surveillance of gonorrhea in one or more surrounding counties.

• Awardees planning to conduct enhanced surveillance of GC in surrounding counties should conduct surveillance on a representative sample of patients with gonorrhea in the county in which the STD clinic is located.

• Collaborate with CDC and other awardees to identify other STDs and sexual health issues of interest (ex: LGV, resistant gonorrhea, resistant syphilis, increased illicit drug use), including those for which rapid implementation of surveillance and/or prevention activities are needed.

• Collaborate with CDC and other awardees to expeditiously develop common protocols to monitor and respond to STD-relevant trends.

• Provide the human and technical resources necessary to conduct enhanced surveillance for the collaboratively identified other STDs and sexual health issues.

• Work collaboratively with other awardees and CDC to standardize behavioral risk domains and achieve standardization of specific data elements.

• Collaborate to develop and implement common data elements and protocols.

• Plan to use or build upon currently existing electronic information systems for the collection, integration, analysis, and reporting of enhanced surveillance data.

• Electronically transmit data from STD surveillance activities to CDC on a monthly basis in a mutually agreed-upon format.

• Perform routine analyses of local STD surveillance data, including spatial or outbreak detection analyses; and evaluate the effectiveness of different methods of spatial or outbreak detection analysis in improving STD surveillance and program activities.

• Establish mechanisms by which STD enhanced and routine surveillance data are shared with stakeholders.

• Participate in annual collaboration meetings by reporting preliminary data and the status of ongoing activities, and working with other sites to develop or revise common enhanced surveillance activity protocols.

In a cooperative agreement, CDC staff is substantially involved in the program activities, above and beyond routine grant monitoring. CDC Activities for this program are as follows:

• Draft common protocols for enhanced gonorrhea surveillance, in STD clinics and in counties, to be discussed and modified by awardees through conference calls and a meeting with awardees in the first quarter of the year one budget period.

• Analyze data from all awardees, and share results with stakeholders.

• Identify emerging trends in STDs and sexual health issues that merit further investigation by the STD surveillance network.

• Coordinate the development of new common surveillance and response protocols; standardization of data elements; and definition of data reporting formats through collaboration with awardees.

• Coordinate annual collaboration meetings to review and plan program activities.

• Collaborate directly in the publication and dissemination of project findings and experiences.

• Facilitate, where possible, and assist with the electronic transmission of data to CDC.

II. Award Information

Type of Award: Cooperative Agreement. CDC involvement in this program is listed in the Activities Section above.

Fiscal Year Funds: 2005.

Approximate Total Funding: $400,000 (This amount is an estimate for the first 12-month budget period, and is subject to availability of funds.)

Approximate Number of Awards: Five.

Approximate Average Award: $80,000, if enhanced county-level surveillance is included; $60,000 for projects that don't include such an activity. (This amount is for the first 12-month budget period, and includes both direct and indirect costs.)

Floor of Award Range: None.

Ceiling of Award Range: $100,000 (This ceiling is for the first 12-month budget period.)

Anticipated Award Date: August 31, 2005.

Budget Period Length: 12 months.

Project Period Length: Three years.

Throughout the project period, CDC's commitment to continuation of awards will be conditioned on the availability of funds, evidence of satisfactory progress by the recipient (as documented in required reports), and the determination that continued funding is in the best interest of the Federal Government.

III. Eligibility Information

III.1. Eligible Applicants

Limited competition. Only the 65 state, county, city, and territorial health departments that are current recipients of Comprehensive STD Prevention Systems grants may apply for this program because participation in an STD surveillance network requires the participating entity to have the legal and programmatic capacity to collect and monitor health data, as well as the programmatic capacity to respond to emerging trends in disease and risk behaviors.

III.2. Cost Sharing or Matching

Matching funds are not required for this program.

III.3. Other

If you are requesting a funding amount greater than the ceiling of the award range, your application will be considered non-responsive and will not be entered into the review process. You will be notified that your application did not meet the submission requirements.

Special Requirements

If your application is incomplete or non-responsive to the special requirements listed in this section, it will not be entered into the review process. You will be notified that your application did not meet submission requirements.

• Late applications will be considered non-responsive. See section “IV.3. Submission Dates and Times” for more information on deadlines.

• Letters of intent are requested.

• Awardees must ensure that enhanced gonorrhea surveillance activities occur in at least one STD clinic that diagnoses at least 150 cases of gonorrhea per year; and, if the awardee plans to work in the surrounding county, the county in which the STD clinic is located receives reports of at least 100 cases of gonorrhea per year from other providers.

• Participation in Outcomes Assessment through Systems of Integrated Surveillance (OASIS) cooperative agreements #707, #99000, or #02211 is useful, but not required, for meeting the requirements of this activity. If not a former OASIS participant, the applicant should demonstrate that they have significant experience conducting other types of enhanced STD surveillance, analyzing enhanced STD surveillance data, and disseminating findings to stakeholders.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form CDC 5161-1.

CDC strongly encourages you to submit your application electronically by utilizing the forms and instructions posted for this announcement at http://www.grants.gov.

Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Letter of Intent (LOI): Your LOI must be written in the following format:

• Maximum number of pages: 1.

• Font size: 12-point unreduced.

• Single spaced.

• Paper size: 8.5 by 11 inches.

• Page margin size: One inch.

• Printed only on one side of page.

• Written in plain language, avoid jargon.

Your LOI must contain the following information:

• Your intent to apply for this application.

• The name of the project coordinator(s).

• The name of any proposed collaborator(s).

• The name, address, telephone, e-mail, and fax number of the applicant's primary point of contact for writing and submitting the application.

Application: You must submit a project narrative with your application forms. The narrative must be submitted in the following format:

• Maximum number of pages: 20. If your narrative exceeds the page limit, only the first pages which are within the page limit will be reviewed.

• Font size: 12 point unreduced.

• Double spaced.

• Paper size: 8.5 by 11 inches.

• Page margin size: One inch.

• Printed only on one side of page.

• Held together only by rubber bands or metal clips; not bound in any other way.

• The funding opportunity title and number must appear on the first page.

Your narrative should address activities to be conducted over the entire project period, and must include the following items in the order listed: Background/Need, Objectives, Plan, Method, Experience, Timeline, Capacity, Evaluation Plans, Sustainability, and Line-Item Budget with Justifications. More detailed descriptions of these items are described in section V.1. “Criteria” of this announcement.

Additional information may be included in the application appendices. The appendices will not be counted toward the narrative page limit. This additional information includes:

• Curriculum Vitas.

• Organizational Charts.

• Letters of Support.

You are required to have a Dun and Bradstreet Data Universal Numbering System (DUNS) number to apply for a grant or cooperative agreement from the Federal Government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: July 8, 2005.

CDC requests that you submit a LOI if you intend to apply for this program. Although the LOI is not required, not binding, and does not enter into review of your subsequent application, the LOI will be used to gauge the level of interest in this program, and allow CDC to plan the application review.

Application Deadline Date: July 25, 2005.

Explanation of Deadlines: LOIs and Applications must be received in the CDC Procurement and Grants Office by 4 p.m. eastern time on the deadline date.

You may submit your application electronically at http://www.grants.gov. Applications completed online through Grants.gov are considered formally submitted when the applicant organization's Authorizing Official electronically submits the application to http://www.grants.gov. Electronic application will be considered as having met the deadline if the application has been submitted electronically by the applicant organization's Authorizing Official to Grants.gov on or before the deadline date and time.

If you submit your application electronically with Grants.gov, your application will be electronically time/date stamped, which will serve as receipt of submission. You will receive an e-mail notice of receipt when CDC receives the application.

If you submit your LOI or application by the United States Postal Service or commercial delivery service, you must ensure that the carrier will be able to guarantee delivery by the closing date and time. If CDC receives your submission after closing due to: (1) Carrier error, when the carrier accepted the package with a guarantee for delivery by the closing date and time; or (2) significant weather delays or natural disasters, you will be given the opportunity to submit documentation of the carrier's guarantee. If the documentation verifies a carrier problem, CDC will consider the submission as having been received by the deadline.

If you submit a hard copy application, CDC will not notify you upon receipt of your submission. If you have a question about the receipt of your LOI or application, first contact your courier. If you still have a question, contact the PGO-TIM staff at: 770-488-2700. Before calling, please wait two to three days after the submission deadline. This will allow time for submissions to be processed and logged.

This announcement is the definitive guide on LOI and application content, submission address, and deadline. It supersedes information provided in the application instructions. If your submission does not meet the deadline above, it will not be eligible for review, and will be discarded. You will be notified that you did not meet the submission requirements.

IV.4. Intergovernmental Review of Applications

Your application is subject to Intergovernmental Review of Federal Programs, as governed by Executive Order (EO) 12372. This order sets up a system for State and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Restrictions, which must be taken into account while writing your budget, are as follows:

• Funds may not be used for research.

• Reimbursement of pre-award costs is not allowed.

• Funds may not be used for construction.

If you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

IV.6. Other Submission Requirements

LOI Submission Address: Submit your LOI by express mail, delivery service, fax, or e-mail to: Lori Newman, MD, Project Officer, CDC/NCHSTP/DSTDP, Mailstop E-02, 1600 Clifton Road, Atlanta, GA 30333, (404) 639-6183, (404) 639-8610 (fax); len4@cdc.gov.

Application Submission Address: CDC strongly encourages applicants to submit electronically at: http://www.grants.gov. You will be able to download a copy of the application package from http://www.grants.gov, complete it offline, and then upload and submit the application via the Grants.gov site. E-mail submissions will not be accepted. If you are having technical difficulties in Grants.gov, they can be reached by e-mail at http://www.support@grants.gov or by phone at 1-800-518-4726 (1-800-GRANTS). The Customer Support Center is open from 7 a.m. to 9 p.m. eastern time, Monday through Friday.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “Back-Up for Electronic Submission.”

The paper submission must conform to all requirements for non-electronic submissions. If both electronic and back-up paper submissions are received by the deadline, the electronic version will be considered the official submission.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

Or:

Submit the original and two hard copies of your application by mail or express delivery service to: Technical Information Management-PA AA055, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation. Your application will be evaluated against the following criteria:

• Methods: (25 points total)

(a) To what extent does the applicant demonstrate that methods for STD clinic-based surveillance, information management, and disease investigation and response are flexible and could be adapted for other types of enhanced STD and behavioral surveillance in such settings? Has the applicant included letters from collaborating clinics and county health departments that demonstrate their support? If the application is from a county or a city, does the application include a letter of support from the state? (15 points)

(b) The applicant should clearly indicate if their plans include enhanced surveillance of gonorrhea from the surrounding county. If included, what is the extent to which methods are sound and analyses will describe a representative sample of persons reported to have gonorrhea in the county? Has the applicant included letters from collaborating facilities and county health departments that demonstrate their support? (10 points)

• Capacity: (20 points total)

(a) Is the proposed staff capacity sufficient to conduct enhanced data collection, entry, cleaning, analysis, evaluation, and dissemination? Does the project staff have the appropriate background, experience, and time to perform the proposed work? (10 points)

(b) Does the applicant have existing information management systems with the capacity to merge or integrate electronic data from providers, laboratories, or other data sources? Does the applicant have a database that can be queried, can generate line listed clinic visit/patient data, and can easily be modified to incorporate new data elements? (10 points)

• Objectives/Plan: (15 points total)

What is the quality of the proposed plan to participate in an enhanced surveillance network to collect enhanced gonorrhea data, as well as data on other emerging or existing STD issues? Consider clarity of objectives and soundness of the applicant's approach. The applicant should demonstrate an understanding of the potential utility of enhanced STD surveillance at both the local and national level. The applicant should indicate a willingness to collaborate with other grantees funded for this project, and adhere to a common standard protocol.

• Experience: (15 points total)

Did the applicant participate in previous Outcomes Assessment through Systems of Integrated Surveillance (OASIS) cooperative agreements #707, #99000, or #02211, and demonstrate their ability to successfully conduct enhanced gonorrhea surveillance and work collaboratively with other sites? OR Does the applicant demonstrate that they have significant experience conducting other types of enhanced STD surveillance, analyzing enhanced STD surveillance data, and disseminating findings to stakeholders?

• Background/Need: (10 points total)

How well has the applicant described the target population, and justified the need for this program within the target population? Is the gonorrhea morbidity in the target population sufficient to merit enhanced surveillance and subsequent interventions? To what extent does the STD clinic have a large and varied clientele (with regard to gender, race, ethnicity, and sexual orientation) who experience a range of STDs, and a professional staff with the ability to recognize, correctly diagnose, and treat emerging STDs and sexual issues? (Note: It is required that the STD clinic see a minimum average of 150 patients of gonorrhea per year.) What is the STD burden in the designated county? (Note: For awardees planning enhanced surveillance in the county, the county must have at least an additional 100 reported cases of gonorrhea a year reported from other providers.)

• Evaluation Plans: (5 points total)

Has the applicant set forth clear performance goals? Has the applicant outlined outcome measures that are objective, quantitative, and adequately measure the intended outcome? To what extent does the applicant demonstrate their ability and intent to disseminate and translate the data into programmatic action?

• Timeline: (5 points total)

Has the applicant proposed an achievable timeline? Has the applicant documented their ability to implement the proposed plan for enhanced gonorrhea surveillance within the first year of the project period?

• Sustainability: (5 points total)

To what extent has the applicant demonstrated that activities could be institutionalized as ongoing surveillance activities?

• Budget and Justification: (Reviewed, but not scored.)

Is the budget reasonable, clearly justified, and consistent with the intended use of funds?

V.2. Review and Selection Process

Applications will be reviewed for completeness by the Procurement and Grants Office (PGO) staff, and for responsiveness by NCHSTP/DSTDP. Incomplete applications and applications that are non-responsive to the eligibility criteria will not advance through the review process. Applicants will be notified that their application did not meet submission requirements.

An objective review panel of CDC employees will evaluate complete and responsive applications according to the criteria listed in the “V.1. Criteria” section above. All members of the objective review panel will come from outside of the funding division of NCHSTP.

In addition, the following factors may affect the funding decision:

• The need for geographic diversity may affect applicant selection.

• Applicant selection may be affected by the importance of covering high gonorrhea morbidity areas.

• Applicant selection may be affected by the importance of including populations that broadly represent patients with gonorrhea by gender, race, ethnicity, and sexual orientation.

CDC will provide justification for any decision to fund out of rank order.

V.3. Anticipated Announcement and Award Dates

August 31, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application. Unsuccessful applicants will receive notification of the results of the application review by mail.

VI.2. Administrative and National Policy Requirements

45 CFR part 74 and part 92

For more information on the Code of Federal Regulations, see the National Archives and Records Administration at the following Internet address: http://www.access.gpo.gov/nara/cfr/cfr-table-search.html.

The following additional requirements apply to this project:

• AR-4 HIV/AIDS Confidentiality Provisions.

• AR-6 Patient Care.

• AR-7 Executive Order 12374 Review.

• AR-9 Paperwork Reduction Act Requirements.

• AR-10 Smoke-Free Workplace Requirements.

• AR-11 Healthy People 2010.

Additional information on these requirements can be found on the CDC Web site at the following Internet address: http://www.cdc.gov/od/pgo/funding/ARs.htm.

An additional Certification form from the PHS 5161-1 application needs to be included in your Grants.gov electronic submission only. Refer to http://www.cdc.gov/od/pgo/funding/PHS5161-1Certificates.pdf. Once the form is filled out, attach it to your Grants.gov submission as Other Attachment Forms.

VI.3. Reporting Requirements

You must provide CDC with an original, plus two hard copies of the following reports:

1. Interim progress report, due by June 30th of each funding year. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Financial status report and annual progress report, due by December 30 of each funding year.

3. Final financial and performance reports, no more than 90 days after the end of the project period.

These reports must be mailed to the Grants Management or Contract Specialist listed in the “Agency Contacts” section of this announcement.

VII. Agency Contacts

We encourage inquiries concerning this announcement. For general questions, contact: Technical Information Management Section, CDC Procurement and Grants Office, 2920 Brandywine Road, Atlanta, GA 30341; telephone: 770-488-2700.

For program technical assistance, contact: Lori Newman, MD, Project Officer, Mailstop E-02, 1600 Clifton Road, Atlanta, GA 30333, telephone: 404-639-6183; e-mail: len4@cdc.gov.

For financial, grants management, or budget assistance, contact: Gladys Gissentanna, Grants Management Specialist, CDC Procurement and Grants Office, 2920 Brandywine Road, Atlanta, GA 30341, telephone: 770-488-2753; e-mail: gcg4@cdc.gov.

VIII. Other Information

This and other CDC funding opportunity announcements can be found on the CDC Web site, Internet address: http://www.cdc.gov. Click on “Funding” then “Grants and Cooperative Agreements.”

Dated: June 17, 2005.
William P. Nichols,
Director, Procurement and Grants Office, Centers for Disease Control and Prevention.

[FR Doc. 05-12410 Filed 6-22-05; 8:45 am]

BILLING CODE 4163-18-P